DEPARTMENT OF THE INTERIOR

Bureau of Land Management

[CA-350-1220-AA]

Notice of Resource Advisory Council Meeting

AGENCY: Bureau of Land Management, Northeast California Resource Advisory Council, Susanville, California.

ACTION: Notice of meeting.

SUMMARY: Pursuant to the authorities in the Federal Advisory Committees Act (Pub. L. 92-463) and the Federal Land Policy and Management Act (Pub. L. 94-579), the U.S. Bureau of Land Management's Northeast California Resource Advisory Council will hold a business meeting and field tour, Friday and Saturday, April 19 and 20, 2002.

SUPPLEMENTARY INFORMATION: The meeting begins Friday, April 19, at 10 a.m. in the Conference Room of the Eagle Lake Field Office, 2950 Riverside Dr., Susanville, CA. Agenda items include juniper management, sage grouse conservation planning, BLM's vegetative management environmental impact statement, and a status report on planning for the Black Rock Desert-High Rock Canyon Emigrant Trails National Conservation Area. Members of the public can also comment on these or other public lands management issues during the public comment period set for 1 p.m. Depending on the number of persons wishing to speak, a time limit may be established.

On Saturday, April 20, the council will convene at 8 a.m. in the Eagle Lake Conference Room, then depart for a field tour of public land areas managed by the Eagle Lake Field Office, including the Fort Sage Off Highway Vehicle Area in southern Lassen County. Members of the public are welcome on the tour, but they must provide their own lunch and transportation in a high clearance vehicle.

FOR FURTHER INFORMATION: Contact BLM Assistant Eagle Lake Field Manager Don Holmstrom, or Public Affairs Officer Joseph J. Fontana at (530) 257-5381.

Joseph J. Fontana,
Public Affairs Officer.

[FR Doc. 02-4161 Filed 2-20-02; 8:45 am]

BILLING CODE 4310-40-P